NATIONAL SCIENCE FOUNDATION

Notice of Intent To Renew a Current Information Collection

AGENCY: National Science Foundation.

ACTION: Notice and request for comments.

SUMMARY: The National Science Foundation (NSF) is announcing plans to request renewal of the Survey of Graduate Students and Postdoctorates in Science and Engineering (OMB Control Number 3145-0062). In accordance with the requirement of the Paperwork Reduction Act of 1995, NSF is providing opportunity for public comment on this action. After obtaining and considering public comments, NSF will prepare the submission requesting that OMB approve clearance of this collection for three years.

DATES: Written comments on this notice must be received by June 26, 2017 to be assured consideration. Comments received after that date will be considered to the extent practicable. Send comments to the address below.

FOR FURTHER INFORMATION CONTACT: Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments are invited on: (a) Whether the proposed collection of information is necessary for the proper performance of the functions of the NSF, including whether the information will have practical utility; (b) the accuracy of the NSF's estimate of the burden of the proposed collection of information; (c) ways to enhance the quality, use, and clarity of the information to be collected; and (d) ways to minimize the burden of the collection of information on those who are to respond, including through the use of automated, mechanical, or other technological collection techniques or other forms of information technology.

Title of Collection: Survey of Graduate Students and Postdoctorates in Science and Engineering.

OMB Approval Number: 3145-0062.

Expiration Date: November 30, 2017.

Type of Request: Intent to seek approval to renew an information collection for three years.

Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

The Survey of Graduate Students and Postdoctorates in Science and Engineering (GSS), sponsored by the NCSES within the NSF and the National Institutes of Health, is designed to comply with legislative mandates by providing information on the characteristics of academic graduate components in science, engineering and health fields. The GSS, which originated in 1966 and has been conducted annually since 1972, is a census of all departments in science, engineering and health (SEH) fields within academic institutions with graduate programs in the United States. The GSS data are solicited under the authority of the National Science Foundation Act of 1950, as amended. Data collection starts each fall in October and data are obtained primarily through a Web survey. All information will be used for statistical purposes only. Participation in the survey is voluntary.

The total number of respondents surveyed in the 2017 survey is estimated to be 15,970 departments (reporting units) located in about 700 SEH graduate degree-granting institutions. The GSS is the only national survey that collects information on the characteristics of graduate enrollment and postdoctoral appointees (postdocs) for specific SEH disciplines at the department level. It collects information on:

(1) Graduate students' ethnicity and race, citizenship, gender, source of support, mechanisms of support, and enrollment status;

(2) Postdocs' ethnicity and race, citizenship, gender, source of support, mechanism of support, type of doctoral degree, and degree origin (U.S. or foreign); and

(3) Other doctorate-holding non-faculty researchers' gender and type of doctoral degree.

To improve coverage of postdocs, the GSS periodically collects information on postdocs employed in Federally Funded Research and Development Centers (FFRDCs) by ethnicity and race, gender, citizenship, source and mechanism of support, and field of research. This survey of postdocs at FFRDCs will be conducted as part of the 2018 cycle of GSS.

Starting in 2017, the GSS will be redesigned to improve the data utility, data reporting, and to reduce response burden. The redesign changes to be implemented include: (1) Separate reporting of enrollment and financial support data for master's and doctoral students; (2) reporting of data based on the Classification of Instructional Programs (CIP) codes for the departments; and (3) expanding the institutional use of a file upload option for data submission, instead of the manual entry of data in the GSS Web survey instrument.

The initial GSS data request is sent to the designated respondent (School Coordinator) at each academic institution in the fall. The School Coordinator may upload a file with the requested data on the GSS Web site, which will automatically aggregate the data and populate the cells of the Web survey instrument for each reporting unit (departments, programs, research centers, and health care facilities). The School Coordinator will be also able to upload partial data (e.g., student enrollment information) and delegate the provision of other data (e.g., financial support information) to appropriate reporting units at their institution. Institutions which do not want to upload data files will be able to complete the survey through manual entry of data in the Web survey instrument as in the past.

Use of the Information: The GSS data are routinely provided to Congress and other Federal agencies. The GSS institutions themselves are major users of the GSS data. Professional societies such as the American Association of Universities, the Association of American Medical Colleges, and the Carnegie Foundation are also major users. Graduate enrollment and postdoc data are often used in reports by the national media. The GSS (along with other academic sector surveys from both NCSES and the National Center of Education Statistics) is one of the inputs into the NCSES data system, which provides access to science and engineering statistical data from U.S. academic institutions. Among other uses, this online data system is used by NSF to review changing enrollment levels to assess the effects of NSF initiatives, to track graduate student support patterns, and to analyze participation in science and engineering fields by targeted groups for all disciplines or for selected disciplines and for selected groups of institutions. In addition to the availability of the GSS data in an online data system, a GSS public use file is also made available for download through the NCSES Web site.

The NCSES will publish statistics from the survey in several reports, including the National Science Board's Science and Engineering Indicators and NCSES' Women, Minorities, and Persons with Disabilities in Science and Engineering. These reports are made available electronically on the NCSES Web site.

Expected Respondents: The GSS is an annual census of all eligible academic institutions in the U.S. with graduate programs in science, engineering and health fields. The response rate is calculated based on the number of departments that respond to the survey. The NCSES expects the annual response rate to be around 99 percent.

Estimate of Burden: The amount of time it takes to complete the GSS data varies dramatically among institutions, and depends to a large degree on the extent to which the school's records are centrally stored and computerized. It also depends on the number of institutions using manual data entry or the file upload option to provide the GSS data. A pilot version of the data collection is currently being fielded during the 2016 GSS to test the feasibility of the file upload option as part of the GSS redesign. Based on preliminary results, NCSES expects that majority of the GSS institutions, including those with large number of units, will use the file upload option. The response burden may be slightly higher in the first year of the redesign implementation due to the changes required at the institution, but the burden is likely to decline substantially after the first year.

The 2015 GSS asked the unit respondents to provide an estimate of time spent in providing the GSS data. The average burden for completing the GSS was 2.5 hours per reporting unit, which includes providing unit listing and aggregate counts for each unit. The NCSES estimates the average burden of 2.75 hours per reporting unit in 2017, which would be the first year of the GSS redesign implementation. For 2018 and 2019, the average burden is estimated to be 2.25 hours per reporting unit. The number of units in the subsequent survey cycle will include the units in the previous year plus an approximately 2.5 percent increase in units. The estimated burden for 2017 GSS is 43,923 hours from 15,972 units; for 2018 GSS is 36,835 hours from 16,371 units; and for 2019 GSS is 37,755 hours from 16,780 units. Since the FFRDC postdoc data collection will take place in 2018, the estimated burden for that year will increase by 159 hours from 43 FFRDCs (based on 100 percent response rate in 2015 survey with the average burden of 3.7 hour per FFRDC) to a total of 36,994 hours (see table 1).

Table 1—GSS Estimated Response Burden
Category | Respondents (Number of units) | Total burden (hours)
Total burden for 2017 | 15,972 | 43,923
Total burden for 2018 | 16,414 | 36,994
GSS institutions | 16,371 | 36,835
FFRDCs | 43 | 159
Total burden for 2019 | 16,780 | 37,755
Future methodological studies (across all 3 years) |  | 800
Total estimated burden | 49,166 | 119,472
Estimated average annual burden | 16,389 | 39,824

The total estimated respondent burden of the GSS, including 800 hours for the methodological studies to improve the survey procedures, will be 119,472 hours over the three-cycle survey clearance period. NCSES may review and revise this burden estimate based on completion time data collected during the 2016 GSS, which is ongoing.

Dated: April 21, 2017.
Suzanne H. Plimpton,
Reports Clearance Officer, National Science Foundation.

[FR Doc. 2017-08427 Filed 4-25-17; 8:45 am]

BILLING CODE 7555-01-P